DEPARTMENT OF VETERANS AFFAIRS

Advisory Committee on Prosthetics and Special-Disabilities Programs, Notice of Meeting

The Department of Veterans Affairs (VA) gives notice under the Federal Advisory Committee Act, that a meeting and site visit of the Federal Advisory Committee on Prosthetics and Special-Disabilities Programs will be held on April 29-30, 2019, in the Spinal Cord Injury (SCI) Middle Dining Room, James A. Haley Veterans Hospital, 13000 Bruce B. Downs Boulevard, Tampa, Florida. The meeting will convene at 8:30 a.m. on April 29 and April 30, and will adjourn at 4:00 p.m. on April 29, 2019, and at 11:15 a.m. on April 30, 2019. Sessions are open to the public except when the Committee is conducting tours of VA facilities, and participating in off-site events. Tours of VA facilities are closed to protect Veterans' privacy and personal information, in accordance with 5 U.S.C. Sec. 552b(c)(6).

The purpose of the Committee is to advise the Secretary of Veterans Affairs on VA's prosthetics programs designed to provide state-of-the-art prosthetics and the associated rehabilitation research, development, and evaluation of such technology. The Committee also provides advice to the Secretary on special-disabilities programs, which are defined as any program administered by the Secretary to serve Veterans with spinal cord injuries, blindness or visual impairments, loss of extremities or loss of function, deafness or hearing impairment, and other serious incapacities in terms of daily life functions.

On April 29, 2019, the Committee will convene open sessions on VA's Physical Medicine Rehabilitation Service and Polytrauma System of Care, James A. Haley Veterans Hospital, 13000 Bruce B. Downs Boulevard, from 8:30 a.m.-9:45 a.m. The Committee will convene closed sessions from 10:00 a.m.-4:00 p.m. as the Committee members tour the Spinal Cord Injury Center; the Polytrauma Center; the Amputation Specialty Clinic and Orthotic and Prosthetic Clinic; the Recreation Therapy Clinic, the Occupational Therapy Visual Impairment Clinic, and the Speech and Audiology Clinic. On April 30, 2019, the Committee will convene open sessions from 8:30 a.m.-11:15 a.m.

No time will be allocated for receiving oral presentations from the public; however, members of the public may direct questions or submit written statements for review by the Committee in advance of the meeting to Judy Schafer, Ph.D., Designated Federal Officer, Veterans Health Administration, Patient Care Services, Rehabilitation and Prosthetic Services (10P4R), VA, 810 Vermont Avenue NW, Washington, DC 20420, or by email at Judy.Schafer@va.gov. Because the meeting is being held in a Government building, a photo I.D. must be presented at the Guard's Desk as a part of the clearance process. Therefore, you should allow an additional 30 minutes before the meeting begins. Any member of the public wishing to attend the meeting should contact Dr. Schafer at (202) 461-7315.

Dated: April 15, 2019.
LaTonya L. Small,
Federal Advisory Committee Management Officer.

[FR Doc. 2019-07760 Filed 4-17-19; 8:45 am]

BILLING CODE 8320-01-P